DEPARTMENT OF JUSTICE

Federal Bureau of Investigation

Agency Information Collection Activities: Proposed Collection, Comments Requested

ACTION: 60-day notice of information collection under review: age, sex, and race of persons arrested 18 years of age and over, and age, sex, and race of persons arrested under 18 years of age.

The Department of Justice, Federal Bureau of Investigation, Criminal Justice Information Services Division has submitted the following information collection request to the Office of Management and Budget (OMB) for review and clearance in accordance with established review procedures of the Paperwork Reduction Act of 1995. The proposed information collection is published to obtain comments from the public and affected agencies. Comments are encouraged and will be accepted until November 28, 2005. This process is conducted in accordance with 5 CFR 1320.10.

All comments and suggestions, or questions regarding additional information, to include obtaining a copy of the proposed information collection instrument with instructions, should be directed to Gregory E. Scarbro, Unit Chief, Federal Bureau of Investigation, Criminal Justice Information Services Division (CJIS), Module E-3, 1000 Custer Hollow Road, Clarksburg, West Virginia 26306, or facsimile to (304) 625-3566.

Written comments and suggestions from the public and affected agencies concerning the proposed collection of information are encouraged. Comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques of other forms of information technology, e.g., permitting electronic submission of responses.

Overview of this information collection:

(1) Type of information collection: Extension of a currently approved collection.

(2) The title of the form/collection: Age, Sex, and Race of Persons Arrested 18 Years of Age and Over; Age, Sex, and Race of Persons Arrested Under 18 Years of Age.

(3) The agency form number, if any, and the applicable component of the department sponsoring the collection: Forms 1-708 and 1-708a; Criminal Justice Information Services Division, Federal Bureau of Investigation, Department of Justice.

(4) Affected public who will be asked or required to respond, as well as a brief abstract: Primary: Local and State Law Enforcement Agencies. This collection is needed to collect information on arrest offenses committed throughout the United States. Data are tabulated and published in the annual Crime in the United States publication.

(5) An estimate of the total number of respondents and the amount of time estimated for an average respondent to respond: There are approximately 17,499 law enforcement agency respondents, who will complete the 1-708a in approximately 12 minutes and the 1-708 in approximately15 minutes.

(6) An estimate of the total public burden (in hours) associated with this collection: There are approximately 94,495 hours annual burden associated with this information collection.

FOR FURTHER INFORMATION CONTACT: Ms. Brenda E. Dyer, Department Clearance Officer, Policy and Planning Staff, Justice Management Division, United States Department of Justice, Patrick Henry Building, Suite 1600, 601 D Street, NW., Washington, DC 20530, or by e-mail at brenda.e.dyer@usdoj.gov.

Dated: September 22, 2005.
Brenda E. Dyer,
Department Clearance Officer, Department of Justice.

[FR Doc. 05-19313 Filed 9-27-05; 8:45 am]

BILLING CODE 4410-02-P